DEPARTMENT OF LABOR

Office of the Secretary

Submission for OMB Review: Comment Request

June 29, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Wage Statement.

OMB Number: 1215-0148.

Form Numbers: WH-501 (English) and WH-501 (Spanish).

Frequency: On occasion and per pay period.

Type of Response: Recordkeeping; Reporting; and Third party disclosure.

Affected Public: Farms and Business or other for-profit.

Number of Respondents: 1,385,864.

Number of Annual Responses: 41,344,000.

Estimated Average Response Time: 1 minute.

Total Annual Burden Hours: 689,067.

Total Annualized capital/startup costs: $0.

Total Annual Costs (operating/maintaining systems or purchasing services): $0.

Description: Sections 201(d) and 301(c) of the Migrant and Seasonal Agricultural Worker Protection Act (MSPA) and section 500.80 of Regulations 29 CFR part 500, Migrant and Seasonal Agricultural Worker Protection, require that each farm labor contractor, agricultural employer, and agricultural association which employs any migrant or seasonal worker, make, keep, and preserve records for three years for each worker. These records include the basis on which earnings are paid, the number of piece work units earned, if paid on piece work basis, the number of hours worked, the total pay period earnings, the specific sums withheld and the purpose of each sum withheld, and the net pay. It is also required that an itemized written statement of this information be provided to each worker each pay period. The WH-501 (English) and WH-501 (Spanish) are optional forms which a farm labor contractor, agricultural employer and agricultural association can maintain as a record and provide as a statement of earnings to migrant and seasonal agricultural workers and users of such workers listing the method of payment of wages.

Ira L. Mills,
Departmental Clearance Officer.

[FR Doc. E6-10634 Filed 7-6-06; 8:45 am]

BILLING CODE 4510-27-P